DEPARTMENT OF TRANSPORTATION

Surface Transportation Board

[STB Finance Docket No. 34008]

Dickinson Osceola Railroad Association—Acquisition and Operation Exemption—Union Pacific Railroad Company

Dickinson Osceola Railroad Association (DORA), a non-profit entity, newly created to become a Class III railroad, has filed a notice of exemption under 49 CFR 1150.31 to acquire (by purchase) and operate approximately 37.21 miles of rail line currently owned by Union Pacific Railroad Company (UP). The line to be acquired and operated, UP's Estherville Branch, extends between approximately milepost 79.34, at a point west of Superior, IA, and the end of the line at approximately milepost 116.55, a point west of Allendorf, IA, in Dickinson and Osceola Counties, IA. DORA certifies that its projected revenues will not exceed those that would qualify it as a Class III rail carrier and its revenues are not projected to exceed $5 million.¹

¹ DORA states that it will interchange traffic with UP. DORA further states that it will provide common carrier rail freight service over the line for its own account or through a contract operator, which will obtain its own operating authority from the Board.

The transaction was scheduled to be consummated on or shortly after February 16, 2001.

If the notice contains false or misleading information, the exemption is void ab initio. Petitions to revoke the exemption under 49 U.S.C. 10502(d) may be filed at any time. The filing of a petition to revoke does not automatically stay the transaction.

An original and 10 copies of all pleadings, referring to STB Finance Docket No. 34008, must be filed with the Surface Transportation Board, Office of the Secretary, Case Control Unit, 1925 K Street, NW., Washington, DC 20423-0001. In addition, one copy of each pleading must be served on John D. Heffner, Esq., REA, CROSS & AUCHINCLOSS, Suite 570, 1707 L Street, NW., Washington, DC 20036 [Attorney for DORA], and Mac Shumate, Esq., Law Department, Union Pacific Railroad Company, 101 N. Wacker Drive, Suite 1920, Chicago, IL 60606 [Attorney for UP].

Board decisions and notices are available on our website at “WWW.STB.DOT.GOV.”

Decided: February 23, 2001.
By the Board, David M. Konschnik, Director, Office of Proceedings.
Vernon A. Williams,
Secretary.

[FR Doc. 01-5128 Filed 3-2-01; 8:45 am]

BILLING CODE 4915-00-P